DEPARTMENT OF TRANSPORTATION

Surface Transportation Board

[Docket No. FD 35707]

MCM Rail Services LLC—Petition for Retroactive Exemption—In Sparrows Point, Md.

AGENCY: Surface Transportation Board, DOT.

ACTION: Notice of commencement of proceeding and request for additional information.

SUMMARY: By decision served March 20, 2013, the Board instituted a proceeding and requested additional information regarding a petition for an operation exemption submitted by MCM Rail Services LLC (MCM) regarding 12 miles of rail line in Sparrows Point, Md. (the Line).

DATES: MCM's supplemental information is due by April 19, 2013. MCM also must notify the shippers on the Line of the proposed transaction by providing them with a copy of the complete petition on the same date that it files the supplemental information with the Board.

ADDRESSES: An original and 10 copies of all pleadings, referring to Docket No. FD 35707, must be filed with the Surface Transportation Board, 395 E Street SW., Washington, DC 20423-0001. In addition, a copy of each pleading must be served on Megan E. Harmon, Schnader Harrison Segal & Lewis LLP, 120 Fifth Avenue, Suite 2700, Pittsburgh, PA 15222.

FOR FURTHER INFORMATION CONTACT: Valerie Quinn, (202) 245-0382. Assistance for the hearing impaired is available through the Federal Information Relay Service (FIRS) at (800) 877-8339.

SUPPLEMENTARY INFORMATION: By petition filed December 20, 2012, MCM seeks an exemption pursuant to 49 U.S.C. 10502 and 49 CFR 1121.1 from the prior review and approval requirements of 49 U.S.C. 10901 to operate over the Line. Under 49 U.S.C. 10502, the Board is opening a proceeding and requesting that MCM supplement its petition by submitting additional information sufficient for the Board to meet its 10502 obligations.

The Line, formerly known as the Patapsco & Back Rivers Railroad, and currently named the Baltimore Industrial Railway, is located at 1430 Sparrows Point Boulevard, Sparrows Point, Baltimore County, Md. MCM began operating over the Line in September 2012, following the sale of assets from the bankruptcy proceeding of R.G. Steel Railroad Holdings, LLC and other steel operations at Sparrows Point.

Additional information is contained in the Board's decision, which is available on our Web site, www.stb.dot.gov. Copies of the decision may be purchased by contacting the Office of Public Assistance, Governmental Affairs, and Compliance at (202) 245-0238. Assistance for the hearing impaired is available through FIRS at (800) 877-8339.

This action will not significantly affect either the quality of the human environment or the conservation of energy resources.

Decided: March 20, 2013.
By the Board, Chairman Elliott, Vice Chairman Begeman, and Commissioner Mulvey.
Jeffrey Herzig,
Clearance Clerk.

[FR Doc. 2013-06761 Filed 3-22-13; 8:45 am]

BILLING CODE 4915-01-P